DEPARTMENT OF HEALTH AND HUMAN SERVICES

National Institutes of Health

Office of Health Assessment and Translation Webinar on Lessons Learned in Application of the OHAT Framework for Systematic Review and Evidence Integration to Case Studies; Notice of Public Webinar and Registration Information

SUMMARY: The National Toxicology Program (NTP) announces a public webinar, “Lessons Learned in Application of the Office of Health Assessment and Translation (OHAT) Framework for Systematic Review and Evidence Integration to Case Studies.” The OHAT, Division of the National Toxicology Program (DNTP), National Institute of Environmental Health Sciences (NIEHS) will host the web-based meeting and the public can register to participate at http://ntp.niehs.nih.gov/go/41629.

DATES:

Webinar: July 31, 2014, 12:30 p.m. to approximately 3:30 p.m. Eastern Daylight Time (EDT).

Registration for Webinar: June 17, 2014 through July 28, 2014.

ADDRESSES: Webinar Web page: http://ntp.niehs.nih.gov/go/41629.

FOR FURTHER INFORMATION CONTACT: Dr. Andrew Rooney, Deputy Director, OHAT, Division of NTP, NIEHS, P.O. Box 12233, K2-04, Research Triangle Park, NC 27709. Phone: 919-541-2999, Fax: 301-480-3299, Email: Andrew.Rooney@nih.gov. Hand Delivery/Courier: 530 Davis Drive, Room K2154, Morrisville, NC 27560.

SUPPLEMENTARY INFORMATION:

Background: The OHAT has developed a systematic review framework, the OHAT Approach, to address environmental health questions by extending approaches developed for clinical medicine to address the greater range of data relevant to environmental health sciences (e.g., human, animal, and mechanistic studies) (available at http://ntp.niehs.nih.gov/go/38673). The OHAT adapted guidance from authorities on systematic review and sought advice during development of the OHAT Approach through consultation with technical experts in systematic review and human health assessment as well as scientific advisory groups and the public.

The approach includes seven steps that provide a framework for incorporating systematic review and evidence integration into NTP literature-based, non-cancer health assessments. The framework, released as the Draft OHAT Approach in February 2013 and published in April 2014 (http://ehp.niehs.nih.gov/1307972/), was assessed and refined through application of the procedures to case-study evaluations. The OHAT applied the approach to two case studies: (1) An evaluation of the association of bisphenol A (BPA) exposure with obesity and (2) an evaluation of the association of perflurooctanoic acid (PFOA) or perfluorooctane sulfonate (PFOS) exposure with immunotoxicity.

The purpose of this webinar is to present lessons learned during the case-study process. The meeting will be conducted in a presentation and discussion format. The first part of the webinar will consist of a series of topic or “lesson” focused presentations, followed by a short question-and-answer period. The second part of the webinar will be a general discussion period when the public can make brief comments on or ask questions about the application of the OHAT Approach to the case studies and lessons learned.

Webinar and Registration: The webinar is scheduled for July 31, 2014, 12:30 p.m. to 3:30 p.m. EDT and may end early if discussions are finished. Registration for the webinar is required and is open from June 17, 2014, through July 28, 2014, at http://ntp.niehs.nih.gov/go/41629. Registrants will receive instructions by email on accessing the webinar on or before July 28, 2014. Registrants are encouraged to access the Web site to stay abreast of current information about this event.

Public Participation: As noted above, the meeting format includes time after each lesson-presentation and during the general discussion session for the public to ask questions or make brief remarks. Individuals with disabilities who need accommodations to participate in this event should contact Dr. Andrew Rooney (See FOR FURTHER INFORMATION CONTACT). TTY users should contact the Federal TTY Relay Service at (800) 877-8330. Requests should be made at least 5 business days in advance of the web-based meeting.

Background Information on OHAT: The OHAT was established to serve as an environmental health resource to the public and regulatory and health agencies (http://www.ncbi.nlm.nih.gov/pmc/articles/PMC3094430). This office conducts evaluations to assess the evidence that environmental chemicals, physical substances, or mixtures (collectively referred to as “substances”) cause adverse health effects and provides opinions on whether these substances may be of concern given what is known about current human exposure levels. The OHAT also organizes workshops or state-of-the-science evaluations to address issues of importance in environmental health sciences. The OHAT assessments are published as NTP Monographs. Information about the OHAT is found at http://ntp.niehs.nih.gov/go/ohat.

Dated: June 17, 2014.
John R. Bucher,
Associate Director, National Toxicology Program.

[FR Doc. 2014-14740 Filed 6-24-14; 8:45 am]

BILLING CODE 4140-01-P